DEPARTMENT OF TRANSPORTATION

Federal Aviation Administration

[Summary Notice No. PE-2021-2066]

Petition for Exemption; Summary of Petition Received; B/E Aerospace—FSI

AGENCY: Federal Aviation Administration (FAA), DOT.

ACTION: Notice of petition for exemption received.

SUMMARY: This notice contains a summary of a petition seeking relief from specified requirements of Federal Aviation Regulations. The purpose of this notice is to improve the public's awareness of, and participation in, the FAA's exemption process. Neither publication of this notice nor the inclusion or omission of information in the summary is intended to affect the legal status of the petition or its final disposition.

DATES: Comments on this petition must identify the petition docket number and must be received on or before May 4, 2021.

ADDRESSES: Send comments identified by docket number FAA-2020-1057 using any of the following methods:

• Federal eRulemaking Portal: Go to http://www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Michael H. Harrison, AIR-612, Federal Aviation Administration, 2200 South 216th Street, Des Moines, WA 98198, phone and fax 206-231-3368, email Michael.Harrison@faa.gov.

This notice is published pursuant to 14 CFR 11.85.

Issued in Des Moines, Washington, on March 31, 2021.
Daniel J. Elgas,
Manager, Strategic Policy Management Branch, Policy and Innovation Division, Aircraft Certification Service.

Petition For Exemption

Docket No.: FAA-2020-1057.

Petitioner: B/E Aerospace—FSI.

Section(s) of 14 CFR Affected: §§ 25.813(e) and 121.310(f)(6).

Description of Relief Sought: B/E Aerospace—FSI is seeking relief from the requirement that no door may be installed between any passenger seat that is occupiable for takeoff and landing and any passenger emergency exit, such that the door crosses any egress path (including aisles, crossaisles and passageways), as well as the requirement that no person may operate an airplane that incorporates a door installed between any passenger seat occupiable for takeoff and landing and any passenger emergency exit. The petitioner is proposing to install expandable monuments at emergency exits on Boeing Model 777 and Model 787 airplanes and Airbus Model A330 and Model A350 airplanes. The expandable monument is a modular transforming-unit that exploits underutilized areas in the cabin by expanding to provide additional usable space. This is achieved by taking advantage of unused space, unfolding in-flight to provide additional service areas. When the modular units are deployed, they block the emergency exits and the attendant seats, located at the exits.

[FR Doc. 2021-07621 Filed 4-13-21; 8:45 am]

BILLING CODE 4910-13-P